FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—09/02/2008
20081619 | JANA Offshore Partners, Ltd | Convergys Corporation | Convergys Corporation.
20081641 | GTCR Fund lX/A, L.P | TA IX L.P | Triumph HealthCare Holdings, Inc.
20081644 | Teck Cominco Limited | Fording Canadian Coal Trust | 1231207 Alberta ULC. 627066 Alberta Ltd.
|  |  | Ardley Coal Limited.
|  |  | Beachpoint Holdings Ltd.
|  |  | Bitmin Resources Inc.
|  |  | Fording Amalco Inc.
|  |  | Fording Coal Limited.
20081647 | Tokio Marine Holdings, Inc | Philadelphia Consolidated Holding Corp | Philadelphia Consolidated Holding Corp.
20081649 | USA Credit Union | T & C Federal Credit Union | T & C Federal Credit Union.
20081657 | Gores Capital Partners, L.P | Gores LuxCo I, S.a r.I | Gores LuxCo I, S.a r.I.
20081658 | CapCom Credit Union | DFCU Financial Federal Credit Union | DFCU Financial Federal Credit Union.
20081660 | Comcast Corporation | Pilot Group LP | Daily Candy, Inc.
20081661 | FMG Acquisition Corp | United Insurance Holdings, L.C | United Insurance Holdings L.C.
20081670 | Deutsche Telekom AG | AT&T Inc | AT&T Mobility LLC f/k/a.
|  |  | Cingular Wirelesss LLC.
|  |  | AT&T Mobility LLC F/k/a.
|  |  | Dobson Cellular Systems, LLC.
|  |  | T-Mobile USA, Inc.
TRANSACTIONS GRANTED EARLY TERMINATION—09/04/2008
20081611 | ABRY Partners V, L.P | Warburg, Pincus Equity Partners, L.P | ChartOne, Inc.
20081662 | Bristol-Myers Squibb Company | PDL BioPharma, Inc | PDL BioPharma, Inc.
20081667 | Janus Capital Group, Inc | Mac-Per-Wolf Company | Perkins, Wolf, McDonnell and Company, LLC.
20081669 | Li & Fung Limited | Bruce Makowsky and Kathleen Van Zeeland | Van Zeeland, Inc.
TRANSACTIONS GRANTED EARLY TERMINATION—09/05/2008
20081511 | ION Geophysical Corporation | Donald G. Chamberlain | ARAM Systems, Ltd.
|  |  | Canadian Seismic Rentals Inc.
TRANSACTIONS GRANTED EARLY TERMINATION—09/08/2008
20081500 | Sisters of Providence—Mother Joseph Province | HOP, Inc | HCP, Inc.
20081671 | AT&T Inc | Deutsche Telekom AG | AT&T Mobility LLC f/k/a. Cingular Wirelesss LLC.
|  |  | AT&T Mobility LLC F/k/a.
|  |  | Dobson Cellular Systems, LLC.
|  |  | T-Mobile USA, Inc.
20081677 | Ameriprise Financial, Inc | H&R Block, Inc | HRB Financial Corporation.
20081685 | Denbury Resources, Inc | Wapiti Energy, LLC | Wapiti Energy, LLC.
|  |  | Wapiti Gathering, LLC.
|  |  | Wapiti Operating, LLC.
20081686 | Voting Trust Relating to Issued Share Cap. of Magnetar Cap | Chaparral Energy, Inc | Chaparral Energy, Inc.
20081687 | Black Canyon Direct Investment Fund, L.P | Dr. Richard J. Malouf | All Smiles Dental Center, Inc.
20081690 | Providence Equity Partners VI L.P | World Triathlon Corporation | World Triathlon Corporation.
20081691 | Sempra Energy | EnergySouth, Inc | EnergySouth, Inc.
20081696 | Billabong International Limited | Robert Kaplan | Da Kine Hawaii Corporation.
20081700 | Community Health Systems, Inc | Empire Health Services | Empire Health Services.
|  |  | Inland Empire Hospital Services Association.
20081707 | JPMorgan Chase & Co | Johnson & Johnson | Ethicon, Inc.
TRANSACTIONS GRANTED EARLY TERMINATION—09/09/2008
20081698 | Complete Production Services, Inc | Appalachian Well Services, Inc | Appalachian Well Services, Inc.
|  |  | Titan Wireline Services, Inc.
TRANSACTIONS GRANTED EARLY TERMINATION—09/10/2008
20081688 | 4 Garages LLC | General Electric Company | UGP—Tower, LLC.
|  |  | Urban Growth Wabash.
|  |  | Randolph, LLC.
TRANSACTIONS GRANTED EARLY TERMINATION—09/11/2008
20081650 | The Goldman Sachs Group, Inc | Griffon Corporation | Griffon Corporation.
20081654 | Lime Rock Partners IV, L.P | Industrial Rubber Products, Inc | Industrial Rubber Products, Inc.
TRANSACTIONS GRANTED EARLY TERMINATION—09/12/2008
20081632 | Humana Inc | Covenant Health | PHP Companies, Inc.
20081643 | Cobham plc | Tyco Electronics Ltd | AMP Products Pacific Limited.
|  |  | Laser Diode, Inc.
|  |  | M/A-COM Eurotec B.V.
|  |  | M/A-COM, Inc.
|  |  | Tyco Electronics AMP GmbH.
|  |  | Tyco Electronics AMP Korea Limited.
|  |  | Tyco Electronics Corporation India Pvt. Limited.
|  |  | Tyco Electronics France SAS.
|  |  | Tyco Electronics H.K. Limited.
|  |  | Tyco Electronics Israel Ltd.
|  |  | Tyco Electronics Raychem GmbH.
|  |  | Tyco Electronics Raychem SA.
|  |  | Tyco Electronics (Shanghai) Co., Ltd.
|  |  | Tyco Electronics (Shenzhen) Co., Ltd.
|  |  | Tyco Electronics Singapore Pte Ltd.
|  |  | Tyco Electronics Svenska AB.
|  |  | Tyco Electronics UK Ltd.
|  |  | Tyco Holdings (Bermuda).
|  |  | No. 7 Ltd., Taiwan Branch.
20081682 | GeNx36O Capital Partners, L.P | GSC Recovery IIA, L.P | Precision Partners, Inc.
20081703 | AEP Industries Inc | Atlantis Plastics, Inc | Atlantis Plastic Films, Inc.
|  |  | Linear Films, Inc.
20081711 | Ecopetrol S.A | Chevron Corporation | Union Oil Company of California.
20081718 | Fortune Brands, Inc | Pernod Ricard SA | Cruzan Viril, Ltd.
|  |  | The Absolut Spirits Company, Inc.
|  |  | V&S Vin Spirit AB.
TRANSACTIONS GRANTED EARLY TERMINATION—09/15/2008
20080831 | Reed Elsevier PLC | ChoicePoint Inc | ChoicePoint Inc.
20080832 | Reed Elsevier NV | ChoicePoint Inc | ChoicePoint Inc.
20080987 | Fresenius Medical Care AG & Co. KGaA | Daiichi Sankyo Company, Limited | Luitpold Pharmaceuticals, Inc.
20081648 | Kulicke and Sofia Industries | Orthodyne Electronics Corporation | Orthodyne Electronics Corporation.
20081666 | JDA Software Group, Inc | i2 Technologies, Inc | i2 Technologies, Inc.
TRANSACTIONS GRANTED EARLY TERMINATION—09/16/2008
20081683 | The Middleby Corporation | TurboChef Technologies, Inc | TurboChef Technologies, Inc.
20081684 | Johnson & Johnson | SurgRx, Inc | SurgRx, Inc.
20081695 | Eli Lilly and Company | Monsanto Company | Monsanto Company.
20081706 | Orkla ASA | Benson Holdings, Inc | Benson Industries LLC.
20081720 | Assurant, Inc | General Electric Company | General Electric Company.
20081729 | Alberto-Culver Company | The Procter & Gamble Company | Noxell Corporation.
20081735 | Arbor Investments II, L.P | Bradshaw International, Inc | Bradshaw International, Inc.
20081737 | J.P. Morgan Chase & Co | X-Rite, Incorporated | X-Rite, Incorporated.
20081738 | The Hanover Insurance Group, Inc | AIX Holdings, Inc | AIX Holdings, Inc.
20081742 | Covanta Holding Corporation | Ridgewood Electric Power Trust IV | Indeck Maine Energy, LLC.
TRANSACTIONS GRANTED EARLY TERMINATION—09/18/2008
20081783 | Barclays PLC | Lehman Brothers Holdings Inc., a debtor-in-possession | LB 745 LLC. Lehman Brothers Inc.
TRANSACTIONS GRANTED EARLY TERMINATION—09/19/2008
20081665 | Owens & Minor, Inc | Mr. George Burrows | The Burrows Company.
20081719 | Chesapeake Energy Corporation | Cinco County Barnet Shale, LLC | DDJET Limited LLP.
20081743 | Covanta Holding Corporation | Ridgewood Electric Power Trust V | Indeck Maine Energy, LLC.
V20081746 | Riverside Capital Appreciation Fund V, L.P | Commercial Markets Holdco, Inc | JohnsonDiversey Canada, Inc. JohnsonDiversey, Inc.

FOR FURTHER INFORMATION CONTACT: Sandra M. Peay, Contact Representative or Renee Hallman, Contact Representative, Federal Trade Commission, Premerger Notification Office, Bureau of Competition, Room H-303, Washington, DC 20580, (202) 326-3100.

By direction of the Commission.
Donald S. Clark,
Secretary.

[FR Doc. E8-23330 Filed 10-3-08; 8:45 am]

BILLING CODE 6750-01-M